DEPARTMENT OF EDUCATION

[Docket No. ED-2023-SCC-0058]

Agency Information Collection Activities; Submission to the Office of Management and Budget for Review and Approval; Comment Request; FY 2023 Child Care Access Means Parents in School Application Package 84.335A (1894-0001)

AGENCY: Office of Postsecondary Education (OPE), Department of Education (ED).

ACTION: Notice.

SUMMARY: In accordance with the Paperwork Reduction Act (PRA) of 1995, the Department is proposing a reinstatement with change of a previously approved information collection request (ICR).

DATES: Interested persons are invited to submit comments on or before May 4, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Harold Wells, 202-453-6131.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: FY 2023 Child Care Access Means Parents in School Application Package 84.335A (1894-0001).

OMB Control Number: 1840-0737.

Type of Review: A reinstatement with change of a previously approved ICR.

Respondents/Affected Public: Private Sector.

Total Estimated Number of Annual Responses: 350.

Total Estimated Number of Annual Burden Hours: 9,800.

Abstract: The fiscal year (FY) 2023 Child Care Access Means Parents in School (CCAMPIS) Program grant application package contains the information and instructions needed to submit a complete application to the U.S. Department of Education (Department) through Grants.gov.

The Application requests information from applicants during the competitive phase. The information collected is reviewed by non-federal reviewers to determine which applicants meet the eligibility criteria to be awarded funds under the CCAMPIS Program to assist awardees with subsidizing the child care fees of qualifying student-parents enrolled at the awarded institution.

This collection is being submitted under the Streamlined Clearance Process for Discretionary Grant Information Collections (1894-0001). Therefore, the 30-day public comment period notice will be the only public comment notice published for this information collection.

Dated: March 30, 2023.
Kun Mullan,
PRA Coordinator, Strategic Collections and Clearance, Governance and Strategy Division, Office of Chief Data Officer, Office of Planning, Evaluation and Policy Development.

[FR Doc. 2023-06931 Filed 4-3-23; 8:45 am]

BILLING CODE 4000-01-P